DEPARTMENT OF DEFENSE

Department of the Army

Information on Surplus Land at a Military Installation Designated for Disposal: Fort Tilden U.S. Army Reserve Center, New York

AGENCY: Department of the Army, DoD.

ACTION: Notice.

SUMMARY: This amended notice provides information on withdrawal of surplus property at Fort Tilden U.S. Army Reserve Center, New York, New York. This notice amends the Notice published in the Federal Register on May 9, 2006 (71 FR 26930).

DATES: Effective May 29, 2012.

FOR FURTHER INFORMATION CONTACT: Headquarters, Department of the Army, Assistant Chief of Staff for Installation Management, Base Realignment and Closure (BRAC) Division, Attn: DAIM-BD, 600 Army Pentagon, Washington, DC 20310-0600, (703) 545-1318. For information regarding the specific property listed below, contact the Army BRAC Division at the mailing address above or at ArmyBRAC2005@hqda.army.mil.

SUPPLEMENTARY INFORMATION: In 2005, Fort Tilden U.S. Army Reserve Center was designated for closure under the authority of the Defense Base Closure and Realignment Act of 1990, Public Law No. 101-510, as amended. On May 9, 2006, the Department of the Army published a Notice in the Federal Register (71 FR 26930) that property at this installation was declared surplus to the needs of the Federal Government. Property previously reported as surplus is now required by the Federal Government for park operations at the National Park Service's Gateway National Recreation Area, New York, New York.

Surplus Property List

Deletion: Fort Tilden USARC, 415 State Road and Breezy Point Boulevard.

Authority: This action is authorized by the Defense Base Closure and Realignment Act of 1990, Pub. L. 101-510, as amended; 10 U.S.C. 2687 note.

Dated: May 1, 2012.
Paul Cramer,
Acting Deputy Assistant Secretary of the Army, (Installations, Housing and Partnerships).

[FR Doc. 2012-12751 Filed 5-24-12; 8:45 am]

BILLING CODE 3710-08-P